FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (“Commission”) announces that the current ranges of comparability required by the Appliance Labeling Rule (“Rule”) for water heaters, room air conditioners, furnaces, boilers, and pool heaters will remain in effect until further notice. In addition, the Commission is revising Table 1 in § 305.9 of the Rule to incorporate the latest figures for average unit energy costs published by the Department of Energy (“DOE”) this year and to update cost figures in Appendices H and I of the Rule. The Commission is also making technical amendments to § 305.9 and Appendix E of the Rule to clarify the applicability of the cost figures in Table 1 to products covered by the Rule.

DATES: The amendments published in this notice are effective September 1, 2005.

FOR FURTHER INFORMATION CONTACT: Hampton Newsome, Attorney, 202-326-2889, Division of Enforcement, Bureau of Consumer Protection, Federal Trade Commission, Washington, DC 20580.

SUPPLEMENTARY INFORMATION: On November 19, 1979, the Commission issued a final rule in response to a directive in section 324 of the Energy Policy and Conservation Act (“EPCA”), 42 U.S.C. 6201. The Rule requires manufacturers of all covered appliances (e.g., water heaters and room air conditioners) to disclose specific energy consumption or efficiency information derived from standard DOE test procedures at the point of sale in the form of an “EnergyGuide” label and in catalogs. It also requires manufacturers of furnaces and central air conditioners either to provide fact sheets showing additional cost information, or to provide that information in an industry directory. Manufacturers must include, on labels and fact sheets, a “range of comparability” which shows the highest and lowest energy consumption or efficiencies for all comparable appliance models. The Rule further requires that labels for some products display the estimated annual operating cost of the product based on a specified DOE national average cost for the fuel the appliance uses.

Section 305.8(b) of the Rule requires manufacturers, after filing an initial notification, to report certain information annually to the Commission by specified dates for each product type.¹ Each year the Commission reviews the submitted data and publishes new ranges of comparability if an analysis of the new information indicates that the upper or lower limits of the ranges have changed by more than 15%. Additional information about the Commission's Appliance Labeling Rule can be found at www.ftc.gov/appliances.

¹ Annual reports for room air conditioners, heat pump water heaters, storage-type water heaters, gas-fired instantaneous water heaters, furnaces, boilers, and pool heaters are due May 1.

I. Review of 2005 Data Submissions (Room Air Conditioners, Water Heaters, Furnaces, and Pool Heaters)

Manufacturers have submitted data for water heaters (including storage-type, gas-fired instantaneous, and heat pump water heaters), room air conditioners, furnaces (including boilers), and pool heaters. The ranges of comparability for these products have not changed significantly. Therefore, the current ranges for these products will remain in effect until further notice.

Water heater manufacturers should continue to base the disclosures of estimated annual operating costs required at the bottom of the EnergyGuides for these products on the 2004 Representative Average Unit Costs of Energy for electricity (8.60¢ per kiloWatt-hour), natural gas (91.0¢ per therm), propane ($1.23 per gallon), and/or heating oil ($1.28 per gallon) (see 69 FR 42107 (July 14, 2004)).

Manufacturers of room air conditioners must continue to use the ranges for room air conditioners that were published on November 13, 1995 (60 FR 56945, at 56949). Manufacturers of room air conditioners must continue to base the disclosures of estimated annual operating cost required at the bottom of EnergyGuides for these products on the 1995 Representative Average Unit Costs of Energy for electricity (8.67¢ per kiloWatt-hour) that was published by the Commission on February 17, 1995 (60 FR 9295). The Commission is amending Appendix E (range information for room air conditioners) to clarify that this cost figure is applicable to room air conditioner labels.

II. Amendments to Table 1 and Section 305.9(a)

A. Table 1

Table 1 in § 305.9(a) of the Rule sets forth the representative average unit energy costs for the current year. As stated in § 305.9(b), the Table is to be revised periodically on the basis of updated information provided by DOE. On March 11, 2005, DOE published the most recent figures for representative average unit energy costs (70 FR 12210). The Commission is revising Table 1 in § 305.9 to reflect these latest cost figures.

B. Section 305.9(a)

In addition to revising the cost information in Table 1, the Commission is amending § 305.9(a) to clarify the applicability of that information to the Rule's requirements. Section 305.9(a) states that the representative unit energy costs in Table 1 should “be utilized for all requirements of this part.” The Commission is changing this language because the cost data in Table 1 do not necessarily apply to all the Rule's requirements. Although the cost data apply to fact sheets and directories for furnaces and central air conditioners under § 305.11(b) and (c), manufacturers should not necessarily use the Table for calculating operating costs on EnergyGuide labels. Instead, as the Commission has routinely stated in the past when annually updating the cost figures,² manufacturers preparing EnergyGuide labels should use the cost figure that was applicable when the most recent ranges of comparability were published. For example, if the Commission published ranges of comparability for a given product in 2001, manufacturers should continue to use the 2001 DOE energy cost figures until the Commission announces otherwise. Paragraphs accompanying the range tables in the Rule's appendices contain the applicable operating costs that should be used on EnergyGuide labels for refrigerators, refrigerator-freezers, freezers, dishwashers, clothes washers, water heaters, and room air conditioners. The Commission is changing the language in § 305.9(a) to clarify that, for purposes of Appliance Labeling Rule compliance, the costs in Table 1 apply to disclosures on fact sheets and in directories for furnaces and central air conditioners as required by § 305.11(b) and (c). This amendment should eliminate any confusion caused by the current language.

² e.g., 68 FR 23584 (May 5, 2003), 67 FR 39269 (June 7, 2002), 64 FR 7783 (Feb. 17, 1999), 62 FR 5316 (Feb. 5, 1997), 60 FR 9295 (Feb. 17, 1995), and 57 FR 6071 (Feb. 20, 1992).

III. Operating Cost Information for Central Air Conditioners Disclosed on Fact Sheets and in Industry Directories

The Commission is amending the cost calculation formulas in Appendices H and I that manufacturers of central air conditioners must include on fact sheets and in directories to reflect this year's energy costs figures published by DOE.³

³ Manufacturers of furnaces and central air conditioners may elect to disseminate information regarding the efficiencies and costs of operation of their products by means of a directory or similar publication instead of on fact sheets as long as they meet certain conditions specified in the Rule at § 305.11(c).

IV. Operating Cost Representations For Products Covered by EPCA but Not by the Commission's Rule

Manufacturers of products covered by section 323(c) of EPCA, 42 U.S.C. 6293(c), but not by the Appliance Labeling Rule (e.g., clothes dryers, television sets, kitchen ranges and ovens, and space heaters) should use the 2005 DOE energy cost figures for their operating cost representations until the DOE publishes new figures in 2006.

V. Labeling of Refrigerators, Refrigerator-Freezers, Freezers, Clothes Washers, Dishwashers, Water Heaters, and Room Air Conditioners

Manufacturers of these products must continue to use the DOE cost figures that were published and in effect the year the ranges of comparability last changed for the applicable covered product.⁴ The cost figures currently applicable to these products are provided in the appendices to the Rule. Manufacturers must continue to use these figures until new ranges of comparability and cost information for an applicable product are published by the Commission. In addition, the text below the operating cost disclosure on the EnergyGuide label should identify the applicable energy cost figure used.

⁴ Sections 305.11(a)(5)(i)(H)(2) and (3) of the Rule (16 CFR 305.11(a)(5)(i)(H)(2) and (3)) require that labels for refrigerators, refrigerator-freezers, freezers, clothes washers, dishwashers, water heaters, and room air conditioners contain a secondary energy usage disclosure in terms of an estimated annual operating cost (labels for clothes washers and dishwashers will show two such secondary disclosures—one based on operation with water heated by natural gas, and one based on operation with water heated by electricity). The labels also must disclose, below this secondary estimated annual operating cost, the fact that the estimated annual operating cost is based on the appropriate DOE energy cost figure, and must identify the year in which the cost figure was published.

VI. Administrative Procedure Act

The amendments published in this notice involve routine, technical and minor, or conforming changes to the Rule's labeling requirements. These technical amendments merely provide a routine change to the cost information in the Rule and clarify the requirements in the Rule, without changing or imposing any new legal obligations on parties subject to the Rule. Accordingly, the Commission finds for good cause that public comment and a 30-day effective date for these technical, procedural amendments are impractical and unnecessary (5 U.S.C. 553(b)(A)(B) and (d)).

VII. Regulatory Flexibility Act

Regulatory Flexibility Act analysis provisions (5 U.S.C. 603-604) are not applicable to this proceeding to the extent that the amendments do not impose any new obligations on entities regulated by the Appliance Labeling Rule and are exempt from the Administrative Procedure Act's notice-and-comment requirements, as explained above. In any event, these technical amendments merely provide a routine change to the cost information in the Rule and clarify existing requirements. Thus, the amendments will not have a “significant economic impact on a substantial number of small entities.” 5 U.S.C. 605. The Commission has concluded, therefore, that a regulatory flexibility analysis is not necessary, and, in any event, certifies, under section 605 of the Regulatory Flexibility Act (5 U.S.C. 605(b)), that the amendments announced today will not have a significant economic impact on a substantial number of small entities, to the extent, if any, that the Act applies.

VIII. Paperwork Reduction Act

In a 1988 notice (53 FR 22113), the Commission stated that the Rule contains disclosure and reporting requirements that constitute “information collection requirements” as defined by 5 CFR 1320.7(c), the regulation that implements the Paperwork Reduction Act.⁵ The Commission noted that the Rule had been reviewed and approved in 1984 by the Office of Management and Budget (“OMB”) and assigned OMB Control No. 3084-0068. OMB has extended its approval for its recordkeeping and reporting requirements until December 31, 2007. The amendments now being adopted do not change the substance or frequency of the recordkeeping, disclosure, or reporting requirements and, therefore, do not require further OMB clearance.

⁵ 44 U.S.C. 3501-3520.

List of Subjects in 16 CFR Part 305

Advertising, Energy conservation, Household appliances, Labeling, Reporting and recordkeeping requirements.

Accordingly, 16 CFR part 305 is amended as follows:

PART 305—[AMENDED]

1. The authority citation for part 305 continues to read:

Authority: 42 U.S.C. 6294.

2. Section 305.9(a) is revised to read as follows:

§ 305.9 Representative average unit energy costs.

(a) Table 1, below, contains the representative unit energy costs to be utilized for operating cost disclosures for furnaces and central air conditioners on fact sheets or in directories as required by § 305.11(b)&(c) of this part.

Table 1.—Representative Average Unit Costs of Energy for Five Residential Energy Sources (2005)
Type of energy | In commonly used terms | As required by DOE test procedure | Dollars per million Btu ¹
Electricity | 9.06¢/kWh ² ³ | $0.0906/kWh | $26.55
Natural gas | $1.092/therm ⁴ or $11.23 MCF ⁵ ⁶ | $0.00001092/Btu | 10.92
No. 2 heating oil | $1.76/gallon ⁷ | $0.00001268/Btu | 12.68
Propane | $1.55/gallon ⁸ | $0.00001694/Btu | 16.94
Kerosene | $2.20/gallon ⁹ | $0.00001632/Btu | 16.32
¹ Btu stands for British thermal unit.
² Wh stands for kiloWatt hour.
³ 1 kWh = 3,412 Btu.
⁴ 1 therm = 100,000 Btu. Natural gas prices include taxes.
⁵ MCF stands for 1,000 cubic feet.
⁶ For the purposes of this table, 1 cubic foot of natural gas has an energy equivalence of 1,028 Btu.
⁷ For the purposes of this table, 1 gallon of No. 2 heating oil has an energy equivalence of 138,690 Btu.
⁸ For the purposes of this table, 1 gallon of liquid propane has an energy equivalence of 91,333 Btu.
⁹ For the purposes of this table, 1 gallon of kerosene has an energy equivalence of 135,000 Btu.

* * * * *

3. Appendix E to part 305 is revised to read as follows:

Appendix E to Part 305—Room Air Conditioners
[Range information]
Manufacturer's rated cooling capacity in Btu's/yr | Range of energy efficiency ratios (EERs): Low | Range of energy efficiency ratios (EERs): High
Without Reverse Cycle and with Louvered Sides:
Less than 6,000 Btu | 8.0 | 10.0
6,000 to 7,999 Btu | 8.5 | 10.3
8,000 to 13,999 Btu | 9.0 | 12.0
14,000 to 19,999 Btu. | 8.8 | 10.7
20,000 and more Btu | 8.2 | 10.0
Without Reverse Cycle and without Louvered Sides:
Less than 6,000 Btu | (*) | (*)
6,000 to 7,999 Btu | 8.5 | 9.6
8,000 to 13,999 Btu | 8.5 | 9.2
14,000 to 19,999 Btu. | (*) | (*)
20,000 and more Btu | (*) | (*)
With Reverse Cycle and with Louvered Sides | 8.5 | 11.5
With Reverse Cycle, without Louvered Sides | 8.0 | 9.0
* No data submitted for units meeting Federal Minimum Efficiency Standards effective January 1, 1990.

Cost Information for Appendix E

When the ranges of comparability in Appendix E are used on EnergyGuide labels for room air conditioners, the estimated annual operating cost disclosure appearing in the box at the bottom of the labels must be derived using the 1995 Representative Average Unit Costs for electricity (8.67¢ per kiloWatt-hour) and the text below the box must identify the costs as such.

Appendix H to part 305 [Amended]

4. In section 2 of Appendix H of Part 305, the text is amended by removing the figure “8.60¢” wherever it appears and by adding, in its place, the figure “9.06¢”. In addition, the text in this section is amended by removing the figure “12.9¢” wherever it appears and by adding, in its place, the figure “13.6¢”.

5. The formula in section 2 of Appendix H of part 305 is revised to read as follows in both places that it appears:

Appendix H to Part 305—Cooling Performance and Cost for Central Air Conditioners

* * * * *

* * * * *

Appendix I to Part 305 [Amended]

6. In section 2 of Appendix I of part 305, the text is amended by removing the figure “8.60¢” wherever it appears and by adding, in its place, the figure “9.06¢”. In addition, the text and formulas are amended by removing the figure “12.90¢” wherever it appears and by adding, in its place, the figure “13.6¢”.

7. In section 2 of Appendix I of part 305, the formula is revised to read as follows in both places that it appears:

Appendix I to Part 305—Heating Performance and Cost for Central Air Conditioners

* * * * *

* * * * *

By direction of the Commission.
Donald S. Clark,
Secretary.

[FR Doc. 05-11026 Filed 6-2-05; 8:45 am]

BILLING CODE 6750-01-P